NATIONAL SCIENCE FOUNDATION

National Science Board and Its Subdivisions; Sunshine Act Meeting

Date and Time: February 8, 2005.

February 8, 2005: 9:15 a.m.-3:30 p.m.

Concurrent Sessions

9:15 a.m.-10:30 a.m. Open

10:30 a.m.-10:45 a.m. Closed

10:45 a.m.-11:30 a.m. Open

11:30 a.m.-12:15 p.m. Open

12:15 p.m.-12:30 p.m. Closed

12:30 p.m.-12:45 p.m. Open

12:45 p.m.-1 p.m. Closed

1:30 p.m.-1:35 p.m. Closed

1:35 p.m.-1:45 p.m. Closed

1:45 p.m.-3:30 p.m. Open

Place: The University of Texas El Paso (UTEP), Geological Sciences Building (Geology Building), 500 W. University Avenue, El Paso, TX 79968, http://www.nsf.gov/nsb.

FOR FURTHER INFORMATION CONTACT: NSF Information Center (703) 292-5111.

Status: Part of this meeting will be closed to the public.

Part of this meeting will be open to the public.

Matters to be Considered:

Tuesday, February 8, 2005

Open

Committee on Education & Human Resources (9:15 a.m.-10:30 a.m.), Room 308, Geological Sciences Building, UTEP

• Approval of Minutes

• Discussions on Strategic Plans for EHR Committee

Committee on Programs & Plans (10:45 a.m.-11:30 a.m.), Room 318, Geological Sciences Building, UTEP

• Approval of Minutes

• Working Group Report: Long-lived Data Collections Task Group: Status of Draft Report

• Report on Major Research Facilities: Status of Report and Facility Guide Revisions

Committee on Strategy & Budget (11:30 a.m.-12:15 p.m.), Room 318, Geological Sciences Building, UTEP

• Approval of Minutes

• Status of FY 2006 budget request to Congress

Executive Committee (12:30 p.m.-12:45 p.m.), Room 318, Geological Sciences Building, UTEP

• Approval of Minutes

• Updates or new business from Committee Members

Closed

Committee on Programs & Plans (10:30 a.m.-10:45 a.m.), Room 318, Geological Sciences Building, UTEP

• NSB Information—Inter-American Institute for Global Change Research

Committee on Strategy & Budget (12:15 p.m.-12:30 p.m.), Room 318, Geological Sciences Building, UTEP

• Discussion of budget and programmatic tradeoffs

Executive Committee (12:45 p.m.-1 p.m.), Room 318, Geological Sciences Building, UTEP

• Director's Items

Plenary Session of the Board (1:30 p.m.-3:30 p.m.)

Executive Closed Plenary Session (1:30 p.m.-1:35 p.m.), Room 318, Geological Sciences Building, UTEP

• Approval of Executive Closed Minutes

Closed Plenary Session (1:35 p.m.-1:45 p.m.), Room 318, Geological Sciences Building, UTEP

• Approval of Closed Session Minutes

• Closed Committee Reports

Open Plenary Session of the Board (1:45 p.m.-3:30 p.m.), Reading Room, Geological Sciences Building, UTEP

• Approval of Open Session Minutes

• Resolution to Close March 2005 Meeting

• NSB Chairman's Report

• NSF Director's Report

• Committee Reports

Michael P. Crosby,
Executive Officer, NSB.

[FR Doc. 05-1763 Filed 1-26-05; 4:01 pm]

BILLING CODE 7555-01-P